DEPARTMENT OF DEFENSE

Office of the Secretary

Defense Advisory Board

AGENCY: Department of Defense.

ACTION: Notice.

SUMMARY: The Defense Advisory Board meeting convened at 8 a.m., Friday, September 22, 2006, but did not have a quorum. The meeting was allowed and conducted in accordance with the Federal Advisory Committee Act (FACA) exception that no deliberation or voting can take place absent a quorum. These conditions were adhered to. Additionally, hard copies of all briefings from the meeting will be forwarded to the absent members and a confirmation printout of the transmitted briefings will be kept on file as a matter of record.

Location: Pentagon, Room 2E219.

Attendees

Members

David A. Janes, Chairman, DAB; Chairman and CEO, Janes Capital Partners.

Donald V. Esmond, Senior VP Automotive Operations, Toyota Motor Sales.

Walter P. Havenstein, Executive Vice President, BAE Systems North America.

W. Thomas Musser, Chairman of the Board, Tri-M Group, LLC and Tri-M Holdings, LLC.

Kathleen M. Naylor, Director, Worldwide Executive and Leadership Development, UNISYS Corp.

Joyce Reed, Community Relations Manager, Tyson Foods, Inc.

Absent

William T. Powell, President, Institute for Defense and Business.

John T. Gremp, VP-Energy Production Systems, Energy Systems Group, FMC Technologies, Inc.

Bradley T. MacDonald, Chairman and CEO, Medifast, Inc.

Jeffery C. Crowe, Chairman and CEO, Landstar System, Inc.

Michael J. Earley, President and CEO, Bankers Trust Company.

Christopher K. Komisarjevsky, President and CEO, Emeritus, Burson-Marsteller Worldwide.

Kenneth L. Gile, President, Skybus Airlines.

Department of Defense

The Honorable Thomas F. Hall, Assistant Secretary of Defense, Reserve Affairs.

Craig W. Duehring, Principal Deputy Assistant Secretary of Defense, Reserve Affairs.

Bob Hollingsworth, Executive Secretary, DAB.

Mr. Tom Bush, Principal Deputy Manpower & Personnel, Office of the Secretary of Defense, Reserve Affairs.

Phil Pope, Designated Federal Officer, DAB.

Roxie Merritt, Office of the Assistant Secretary of Defense, PA, Internal Com/Public Liaison.

Ted Kehr, Director, Employer Support Division, National Guard Bureau.

Public

Mr. Nick Dawson, Department of Labor, Veterans Employment and Training Services.

Mr. Marcus Bradshaw, Department of Labor, Veterans Employment and Training Services.

Speakers

The Honorable Thomas F. Hall, Assistant Secretary of Defense, Reserve Affairs. Topic: Welcome and Opening Remarks.

Kathleen Naylor, Director, Worldwide Executive and Leadership Development, UNISYS Corp. and Roxie Merritt, Office of the Secretary of Defense, PA for Internal Com/Public Liaison. Topic: Communications/Outreach Update.

Nick Dawson and Marcus Bradshaw, Veteran's Administration Department of Labor. Topic: Uniformed Services Employment and Reemployment Rights Act (USERRA).

Bob Hollingsworth, National Committee for Employer Support of the Guard (NCESGR) and Reserve Executive Director and DAB Executive Secretary. Topic: ESGR Outreach Status Brief.

Tom Bush, Principal Deputy Manpower and Personnel, Office of the Secretary of Defense, Reserve Affairs. Topic: “Transitioning To An Operational Reserve”.

DAB Meeting Summary

Meeting discussions focused on four primary areas:

(1) Leveraging and implementation of long-range strategic communications plan that uses public affairs tactics designed to assist branding NCESGR, while targeting key messages to employers.

(2) An information brief of USERRA rights and responsibilities as they affect Reserve Component members/employers.

(3) Employer data and impact on employers as Guard and Reserve transition from a Strategic Reserve to an Operational Reserve.

(4) OSD-RA Manpower and Personnel prospective of transition to an Operational Reserve.

Invited speakers discussed more aggressive public affairs efforts to enhance communications with employers; the ongoing process to educate and inform employers and Defense Advisory Board (DAB) members regarding legal rights and responsibilities under the Uniformed Services Employment and Reemployment Rights Act (USERRA); the purpose and function of NCESGR and transitioning from a Strategic Reserve to an Operational Reserve.

Opening Remarks

Secretary Thomas F. Hall, Assistant Secretary of Defense, Reserve Affairs

Secretary Hall thanked Mr. Hollingsworth and his team for a great Leadership Conference, and the culmination of a superb Freedom Award Dinner, which also resulted in late night news coverage emphasizing the significant support provided to the nation's Guard and Reserve by America's exceptional employers. General Cody did a great job with his speech, as well as WLS-Channel 7 News broadcast reporter Mr. Leon Harris, the event Master of Ceremonies. Later today, 15 distinguished employer recipients of the Secretary of Defense Employer Support Freedom Award will meet with President Bush at the Oval Office.

David Janes, DAB Chairman

On Thursday, September 21, 2006, NCESGR held its annual Leadership Conference in which all State and Territory Field Committee Chairs were in attendance. This is the first time that only the Chairs were invited to the conference without any other Field Committee Executive members. Everyone came with lots of positive energy. We have fielded the best group of volunteer leaders in the past three years, very professional and energetic. Furthermore, a lot of positive changes have taken place in the past three years that has led us to this remarkable team of Field Committee Chairs. This is attributed in large part to the tremendous support received from both NCESGR and the Office of the Secretary of Defense for Reserve Affairs (OSD-RA) staff, which continues to reinforce why ESGR is important. Everyone's hard work has made a difference and that has contributed to making this the strongest Field Committee Chair Team ever.

A number of DAB members have expressed that it would be beneficial for them to visit a training mobilization site while Guardsmen are mobilizing. Fort Dix in New Jersey, Fort McCoy in Wisconsin, and 29 Palms in California are among the potential venues that could be researched. Our next meeting scheduled in February of 2007 could be held at a National Guard Bureau mobility site during an actual training mobilization in order for DAB members to experience what type of preparation guard reserve members go through during mobilization. Mr. Hollingsworth has agreed to investigate possible training sites.

Minutes from the June 2006 meeting have been approved and have been posted in the Federal Register, as a matter of public record.

A draft of the September 22, 2006 meeting minutes will be sent to DAB members for review prior to publication and hard copies of all slide presentations will be mailed to the members absent to ensure DAB Committee meeting compliance with FACA guidance absent a quorum.

Meeting Presenters

Kathleen Naylor, Director, Worldwide Executive & Leadership Development, UNISYS Corp.

Roxie Merritt, Office of the Assistant Secretary of Defense, PA (Internal Com/Public Liaison)

Topic: Communications/Outreach Update

The DAB determined that there is an ongoing need to build stronger partnerships with employers of guard and reserve members. The development of an integrated communications plan has been drafted to address the lack of reliable methods by which the DoD can convey information routinely to employers of guard and reserve members. The premise for this initiative is to establish an ongoing mechanism to communicate information about the Department of Defense, and associated agencies VA, and DoL regarding related plans, policies, mobilizations and training issues for Reserve component members and employers. The following topics were discussed:

Integrated Plan

• Utilize broadcast, Web, print and outreach tools (events) and key individuals to highlight NCESGR and model employers of Guardsmen and Reservists.

• Leverage Freedom Awards Ceremony, America Supports You, Employer Boss Lifts and other contract resources.

Web/News Media Approaches

• Use American Forces Press Service reporters to cover and generate wire stories on events.

• Wire stories can be distributed to more than 1,000 military publications and newspapers world-wide.

• Deploy on-line survey to employers to gain additional insights on their view, perspectives and support they wish.

• Post key communications/messages to http://www.Defenselink.mil which receives more than 65,000 unique hits per day.

Broadcast

• Use Pentagon Channel television crew to cover NCESGR events.

• Pentagon Channel can be viewed world-wide and is carried on a number of commercial cable and satellite providers.

• The broadcast piece will be available on http://www.pentagonchannel.mil the day the piece airs on Pentagon Channel.

• Event will be promoted on the Pentagon Channel crawler.

• Determine other media possibilities outside government to leverage NCESGR events.

Print/Outreach

• NCESGR events will be included in regular outreach products DoD updates for distribution and releases on the day of the event.

• Events will be posted to OSD-PA event calendar.

• Story to be carried in the National Guard Family Readiness Newsletter.

• Leverage “Hometown News” local newspapers and work with America Supports You, and grass roots organizations.

• Use Legislative body to promote/support outreach (Senators/Internal Legislative Affairs, DoD Legislative Affairs, and White House Legislative Affairs staff).

Online Survey

Utilize/leverage all vehicles available to include DoL, recruiting commands, if feasible, and others to launch survey to employers (sample survey to be developed and will be short/succinct and will leverage work of Freedom Awards recipients).

Outreach by Legislative Body/Media

• Leverage internal resources—share NCESGR/DAB strategy, ask for their input and reach out to those who have stepped forward to bridge gaps and build relationships.

• Feature stories in key publications and at key events (with photos)—Start with leveraging recurring events such as, NCESGR's annual Freedom Awards.

Charting a Way Ahead

• Identify quick ways to deploy an online survey to employers.

• Obtain NCESGR resources to work with OSD-PA, DoD and DAB.

• Identify concise survey topics to address with employers.

• Define how success of media initiatives will be measured.

• Work to engage support and involvement of House and Senate members to promote NCESGR.

• Dedicate internal NCESGR staff to support communications if this initiative is a priority.

• Define actions/dates to leverage existing DoD initiatives i.e., America Supports You.

• Routinely interface with DoL point person to leverage key messages, outreach and DoD/DoL use of the Civilian Employer Information database.

• Commit aggressive support from DAB to move initiative forward.

Mr. Nick Dawson and Mr. Marcus Bradshaw, Department of Labor (DoL), Veterans Employment and Training Services (VETS)

Topic: Uniformed Services Employment and Reemployment Rights Act (USERRA)

A big compliance problem employers' face is a limited knowledge and understanding about USERRA. NCESGR and DoL (VETS) are simultaneously engaged in an ongoing concerted effort to help educate employers, Guardsmen and Reservists about their rights and responsibilities. The following information was discussed:

Who USERRA Covers

• The Uniformed Services Employment and Reemployment Rights Act (USERRA) was enacted in 1994 under Title 38, U.S. Code, 4301-4334.

• USERRA applies to virtually all employers (foreign and domestic) in the United States and its Territories.

• USERRA generally protects persons who perform, have performed or apply to perform service in the uniformed services.

• Service in the uniformed services includes voluntary and involuntary service, both during wartime and in peacetime.

• Since 2002, service by intermittent disaster response personnel for FEMA and training to perform such service is considered service in the uniformed services and is protected by USERRA.

Employment Rights

• Employment rights consist of protections against employment discrimination and employer retaliation.

• Employers may not discriminate in employment, reemployment, retention in employment, promotions or any benefit of employment on the basis of a person's prior military service, current military obligations, or an intent to join one of the uniformed services.

• Also, an employer may not take any adverse action to retaliate against a person who has attempted to enforce his or her rights under USERRA.

• The law also prohibits retaliation against a person who assists or testifies in an investigation or other enforcement action. Such person is protected from retaliation even if he or she has no military connection.

Reemployment Rights

• If the returning employee meets the eligibility criteria, he or she is entitled to prompt reemployment in accordance with what is referred to as the “escalator principle,” which was first laid down by the Supreme Court in the first reemployment rights case it decided, in 1946.

• The person is to be reemployed in the position he or she would have attained if he or she had remained continuously employed during the period of military service. If the period of military service was for more than 90 days, the employer has the option to reemploy the person in the “escalator” position or in another similar position with like seniority, status and rate of pay. An employer is required to make reasonable efforts to accommodate a disability incurred or aggravated during the period of military service.

• An employee who performs service of 31 or more days, must, upon request of the employer, provide documentation (official orders or DD-214) that shows the employee is eligible for reemployment. However, if the documentation is not readily available or doesn't exist, the employer must still reemploy the returning employee. The employer can also contact the DoD (ESGR) or the employee's command to obtain documentation.

• The employer is excused from the obligation to reemploy if the employer's circumstances have changed so as to make the reemployment impossible or unreasonable. This would apply, for example, if the employer has a bona fide layoff that would have included the service member.

• An employer is also excused from reemployment obligations if the employee in question held a position that was to last for only a brief non-recurrent period with no expectation that it would continue indefinitely or for a significant period of time.

Benefits and Pensions

• Upon reemployment, the employee is entitled to the seniority and seniority-related benefits he or she had at the beginning of the military plus whatever seniority and seniority benefits he or she would have gained during the period of military service.

• While absent to serve in the uniformed services, the employee is considered on furlough or leave of absence and is entitled to rights and benefits not based on seniority as are generally given to similarly situated employees on other types leave of absence.

• An employee and his or her dependents must be allowed (upon request) to receive continued coverage under the employer's health plan while performing military service. The period of coverage is the lesser of 24 months from the beginning of the absence or the actual period of the military leave of absence. If the period of military service is 31 days or more, the employer may require the employee to pay up to 102% of the full premium for continuation coverage. The employee pays only the normal employee share, if any for military service of 30 days or less. If the health plan is discontinued during the period of service, it must be reinstated immediately upon reemployment. There are no exclusions allowed, except for conditions determined by VA to be service-connected.

• Regarding pensions, an employee reemployed following service must be given credit for the period of service for purposes of benefits and vesting. If a plan is contributory, the employee must be allowed to make up missed employee contributions, and the employer must match those contributions in accordance with the plan's provisions.

• Additional USERRA information can be found at http://www.esgr.org and http://www.dol.gov/vets.

Bob Hollingsworth, Executive Director, ESGR

Topic: ESGR Outreach Status Brief

NCESGR continues to use employer outreach initiatives as a strategic tool to communicate and gain support from employers of Guard and Reserve. Through its outreach efforts, NCESGR has been able to identify and successfully partner with industry leaders, military organizations and government agencies.

ESGR State committees have also conducted proactive outreach to known employers of Reserve component members through direct mail marketing campaigns. Recently NCESGR Executive Director Bob Hollingsworth presented a Civilian Employer Information (CEI) brief presented to the Chairman's Reserve Conference, which was well received. The following CEI information was discussed:

What We Know

• Roughly ⅓ of Select Reserve civilian employers are employed in the public sector.

• Just over ½ of Select Reserve civilian employers employ fewer than 100 total employees.

• Eating and drinking establishments and medical offices are the top two industries that employ Reserve component members.

• Large firms such as, the U.S. Postal Service, Federal Express, Sears Holdings Corp., Wal-Mart Stores, Inc., Lockheed Martin Corp., The Home Depot Inc., and Northrop Grumman Corp., employ hundreds of Reservists each.

• Police, truck drivers, correctional officers, technicians, pilots, and flight engineers, bailiffs, nurses, automotive technicians and retail sales persons comprise the top 10 occupations and accounts for 26% of National Guardsmen and Reservists.

• Even though NCESGR has pushed to insert the term “employer” into every topic, the leaders within the Pentagon are not receptive and do not see the importance to include the employer in topics as they do with “family” terminology.

• Job placement, discrimination, harassment, and termination protection are recurring concerns from year to year. This is noteworthy because these areas are most likely to impact recruiting and retention.

Employer Feedback

• Employers' lack of knowledge on USERRA is a barrier to compliance.

• Employers report that the greatest impact of mobilizations on their company is operational.

• Employers' biggest concerns are uncertainty over timing of activations and the length of activations.

Future topics of discussion:

• Does DoD consider the impact on the employers of Guardsmen and Reservists and the impact to civilian employment of Guardsmen and Reservists in the decisionmaking process?

• Does DoD recognize employers as key partners in order to field a viable Reserve component?

• Do employers understand the significance of the change from a Strategic Reserve to an Operational Reserve and how it will impact them?

• Do Guardsmen/Reservists understand the significance of the change from a Strategic Reserve to an Operational Reserve and how it will impact them?

• What is the threshold of pain that employers are willing to accept for Reserve component service?

• What is the threshold of pain that Reservists/Guardsmen are willing to tolerate to their civilian employment?

Tom Bush, Principal Deputy, Manpower and Personnel for the Office of the Secretary of Defense for Reserve Affairs

Topic: “Transitioning to an Operational Reserve”

More than 30 years have passed since the inception of the all volunteer force in 1973. Historically, Reserve component members have trained for mobilization and responded when called to duty to augment the active forces during war or large scale conflicts—this is the Strategic Reserve. But as forces were drawn down beginning in the mid to late 1980s, the Reserve components were increasingly called upon to support ongoing operational requirements. This began the transition to an Operational Reserve. Today, the Guard and Reserve are more actively engaged in operation than any time since the Korean War, supporting both the Global War on Terror and daily operations.

• As background, the Reserve structure has three major categories: the Ready Reserve (which is comprised of the Selected Reserve and Individual Ready Reserve), the Standby Reserve, and the Retired Reserve. The category that is the most well known is the Selected Reserve since this is the category that regularly performs military duty (48 inactive duty periods or “drills” each year and two weeks of annual training).

• During the first Gulf War and since 9/11, the Operational tempo of the Guard and Reserve has increased significantly. The annual average of .09 million duty days served in 1987 to provide operational support has been eclipsed 67 fold to 68.3 million duty days served in 2005 for operational support.

• Volunteerism is a key attribute of the Operational Reserve.

• The long-standing rules governing the use of the Guard and Reserve were designed for a Strategic Reserve—prepare for mobilization (train) and mobilize. To support a continuum of service for an Operational Reserve, the paradigm must shift:

—A “Rheostat” approach (each transition between duty statuses) rather than a “Circuit Breaker” approach (performing only required training, or being mobilized).

—Flexible system that supports any level of service.

—No more “workarounds.”

—Easy to transition from civilian to military and back.

—Common pay system that accommodates varying levels of service is required.

—Variable Reserve component pool optimizing assets with flexibility to serve from zero to 365 days.

• What's Needed To Transition to an Operational Reserve:

—Define an “Operational Reserve.”

—Develop proper expectations.

—Develop new availability and service paradigm.

—Determine the operational role of the National Guard.

• What is the New Guard and Reserve?

—Today's new Guard and Reserve has both a strategic and operational role.

—How will the New Guard and Reserve Support Operational Missions?

The new Guard and Reserve will be organized, equipped and trained to support operational military mission requirements to the same standard as the Regular component. Individuals and units will be tasked to prepare for and participate in missions, across the full spectrum of operations, in a cyclic or periodic manner that provides predictability for service members, their families and employers.

Comments from individual members:

• Mr. Havenstein—He had received an e-mail from his operations officer who recently attended an ESGR state committee Bosslift. The employers who were in attendance were awestruck on how much they learned about their employees while they performed weekend drills. The operations officer wanted this feedback to be told to NCESGR senior leadership “that Bosslifts are truly important and should continue to be supported.”

• Mr. Havenstein—The ESGR state committee New Hampshire Chair was recently at a concert of more than 6,000 people; when the concert stopped for an intermission, the Chair was able to recognize one of his Guardsmen at the concert. All 6,000 people stood and applauded the service member.

• Ms. Reed—Are the local Chamber of Commerces involved or invited to participate in Bosslifts? Mr. Hollingsworth and Mr. Janes both replied that the local Chambers are notified of Bosslifts, as well as other ESGR state committee events.

• Mr. Musser—There is a big push to institutionalize the term “employer” within the Pentagon and as a member of the DAB, I offer to assist in writing a plan and letter to make this initiative happen.

• Mr. Havenstein—Requested the DAB receive a copy of the last Reserve component Chief briefings. Mr. Janes and Mr. Hollingsworth stated they would have a copy of the last Reserve Chief presentation package to the team before the end of the day. A copy of all Reserve Chief briefings was delivered and distributed to the DAB team prior to their departure.

• Mr. Janes and Mr. Hollingsworth—The Pinnacle Advance initiative is a phased direct marketing campaign being mailed to all Guardsmen and Reservists. The process requests support from the service member to provide employer information that promotes USERRA and solicits a statement of support to their employer. The U.S. Army Reserve (USAR) and the Army National Guard (ARNG) were the first recipients of this initiative by NCESGR. Leaders for both the USAR and ARNG are in full support of the Pinnacle Advance initiative. The next Reserve components scheduled to receive the Pinnacle Advance initiative (pending funding availability) are: USMC Reserve, NAVY Reserve, Coast Guard Reserve, Air National Guard, and the Air Force Reserve Command.

• Mr. Havenstein, Ms. Naylor—It is important that unit commanders develop a partnership with employers. Relationship building may help with the angst of the unpredictability of some deployments. Perhaps this initiative should be considered for all of NCESGR programs, so that we can figure out how to best support it. Although the unit commander's primary responsibility is to ensure their units are combat ready, there still needs to be a directive or mandatory training requirement that includes employer support. We should solicit support and participation from employers and unit commanders to help move the initiative forward.

Closing Comments from Chairman Janes:

Today's meeting did not have a quorum due to the last minute cancellations of three individuals. All items discussed today that had possible taskers will be brought up at the next meeting with a quorum and will then be assigned as official taskers. Additionally, the agenda for the next meeting will be structured to enable those absent to present their slide materials.

Next meeting for the DAB is scheduled for February 2007.

Dated: October 5, 2006.
L.M. Bynum,
Alternate OSD Federal Register Liaison Officer, DoD.

[FR Doc. E6-16898 Filed 10-11-06; 8:45 am]

BILLING CODE 5001-06-P